NUCLEAR REGULATORY COMMISSION

Notice of Availability; NUREG-1307, Revision 13, “Report on Waste Burial Charges Changes in Decommissioning Waste Disposal Costs at Low-Level Waste Burial Faciilities”

AGENCY: Nuclear Regulatory Commission (NRC).

ACTION: Notice of availability.

SUMMARY: The NRC is announcing the completion and availability of NUREG-1307, Revision 13, “Report on Waste Burial Charges,” dated December 2009.

ADDRESSES: NUREG-1307 may be purchased from The Superintendent of Documents, U.S. Government Printing Office , P.O. Box 37082, Washington, DC 20402-9328: http://www.access.gop.gov/sudocs: 202-512-1800; or The National Technical Information Service, Springfield, Virginia 22161-0002; http://www.ntis.gov; or locally, 703-605-6000. The publication may be viewed electronically on the public computers located at the NRC's Public Document Room (PDR), One White Flint North, 11555 Rockville Pike, Room O1-F21, Rockville, Maryland. The PDR reproduction contractor will copy documents for a fee. The public can gain entry into the NRC's Agencywide Documents Access and Management System (ADAMS) through the agency's public Web site at http://www.nrc.gov.

This Web site provides text and image files of the NRC's public documents. If you do not have access to ADAMS or if there are problems in accessing the documents located in ADAMS, contact the NRC PDR Reference Staff at 1-800-397-4209, 301-415-4737 or by e-mail to pdr@nrc.gov.

FOR FURTHER INFORMATION CONTACT: Clayton L. Pittiglio, Office of Nuclear Reactor Regulation, Division of Policy and Rulemaking, U.S. Nuclear Regulatory Commission, Washington, DC 20555, telephone (301) 415-1435, e-mail Clayton.Pittiglio@nrc.gov.

SUPPLEMENTARY INFORMATION: A requirement placed upon nuclear power reactor licensees by the NRC is that licensees must annually adjust the estimate of the cost of decommissioning their plants, in dollars of the current year, as part of the process to provide reasonable assurance that adequate funds for decommissioning will be available when needed. This report, which is revised periodically, explains the formula that is acceptable to the NRC for determining the minimum decommissioning fund requirements for nuclear power plants. The sources of information used in the formula are identified, and the values developed for the estimation of radioactive waste burial/disposition costs, by site and by year, are given.

Dated at Rockville, Maryland, this 22 day of December.
For the Nuclear Regulatory Commission.
Timothy J. McGinty,
Director, Division of Policy and Rulemaking, Office of Nuclear Reactor Program.

[FR Doc. E9-203 Filed 1-8-09; 8:45 am]

BILLING CODE 7590-01-P